DEPARTMENT OF COMMERCE

International Trade Administration

C-351-829

Certain Hot-Rolled Flat-Rolled Carbon-Quality Steel Flat Products from Brazil: Notice of Rescission of Countervailing Duty Administrative Review

AGENCY: Import Administration, International Trade Administration, U.S. Department of Commerce.

SUMMARY: On October 25, 2005, in response to timely requests from United States Steel Corporation (Petitioner) and Companhia Siderurgica Nacional (CSN), the Department of Commerce (the Department) initiated an administrative review of the countervailing duty order on certain hot-rolled flat-rolled carbon-quality steel flat products from Brazil. See Notice of Initiation of Antidumping and Countervailing Duty Administrative Reviews, 70 FR 61601 (October 25, 2005) (Initiation Notice). This administrative review covered the period January 1, 2004 through December 31, 2004. We are now rescinding this review as a result of Petitioner's withdrawal of its requests for an administrative review for all four of the Brazilian producers and exporters (Companhia Siderurgica de Tubarao (CST), Usinas Siderurgicas de Minas Gerais (USIMINAS), Companhia Siderurgica Paulista (COSIPA), and CSN), and because CSN, the sole Brazilian company that self-requested a review, also withdrew its request for review.

EFFECTIVE DATE: February 16, 2006.

FOR FURTHER INFORMATION CONTACT: Joshua Reitze or Sean Carey, AD/CVD Operations, Office 6, Import Administration, International Trade Administration, US Department of Commerce, 14th Street and Constitution Avenue, NW, Room 7866, Washington, DC 20230; telephone: (202) 482-0666 and (202) 482-3964, respectively.

SUPPLEMENTARY INFORMATION:

Background

On July 6, 1999, the Department entered into a suspension agreement that suspended the countervailing duty investigation involving certain hot-rolled flat-rolled carbon-quality steel products from Brazil. See Suspension of Countervailing Duty Investigation: Certain Hot-Rolled Flat-Rolled Carbon-Quality Steel Products From Brazil, 64 FR 38797 (July 19, 1999). After the signing of the suspension agreement, the underlying investigation was completed pursuant to section 704(g) of the Tariff Act of 1930, as amended (the Act), and the Department determined that countervailable subsidies were being provided to producers and exporters of certain hot-rolled flat-rolled carbon-quality steel from Brazil. See Final Affirmative Countervailing Duty Determination: Certain Hot-Rolled Flat-Rolled Carbon-Quality Steel Products From Brazil, 64 FR 38742 (July 19, 1999).

On September 17, 2004, the Department terminated the suspension agreement in accordance with the terms of the agreement. See Agreement Suspending the Countervailing Duty Investigation on Certain Hot-Rolled Flat-Rolled Carbon Quality Steel from Brazil; Termination of Suspension Agreement and Notice of Countervailing Duty Order, 69 FR 56040 (September 17, 2004). The countervailing duty order was re-instituted effective September 26, 2004. Id.

On September 1, 2005, the Department published a notice of “Opportunity to Request Administrative Review” of the countervailing duty order for the period of January 1, 2004, through December 31, 2004. See Notice of Opportunity to Request Administrative Review of Antidumping or Countervailing Duty Order, Finding or Suspended Investigation, 70 FR 52072 (September 1, 2005). On September 30, 2005, Petitioner requested a review of the following companies: CST, USIMINAS, COSIPA and CSN. In addition, on September 30, 2005, CSN requested an administrative review. In response to these requests, on October 25, 2005, the Department initiated a countervailing duty administrative review on certain hot-rolled carbon steel flat products from Brazil. See Initiation Notice.

On December 21, 2005, USIMINAS and COSIPA requested, pursuant to section 351.213(d)(3) of the Department's regulations, a rescission of the administrative review because they had no entries or sales of subject merchandise to the United States during the period of review. On December 23, 2005, pursuant to section 351.213(d)(1) of the Department's regulations, Petitioner withdrew its request for an administrative review with respect to CST, USIMINAS, and COSIPA. On January 23, 2006, Petitioner and CSN jointly withdrew their requests for an administrative review with respect to CSN. No other party requested an administrative review of these companies.

Rescission of the Administrative Review

Pursuant to section 351.213(d)(1) of the Department's regulations, the Secretary will rescind an administrative review, in whole or in part, if a party that requested the review withdraws the request within 90 days of the date of publication of notice of initiation of the requested review. The initiation notice for this review was published on October 25, 2005. We received Petitioner's withdrawal requests on December 23, 2005, and January 23, 2006, both within 90 days after publication of the initiation notice. Since Petitioner withdrew its request for review of all four producers and exporters (CST, USIMINAS, COSIPA, and CSN) in a timely manner, and since CSN, the only producer/exporter that requested a review, also withdrew its request, we are rescinding this administrative review. The Department will issue appropriate assessment instructions to U.S. Customs and Border Protection within 15 days of publication of this notice.

Administrative Protective Orders

This notice serves as a reminder to parties subject to administrative protective order (APO) of their responsibility concerning the disposition of proprietary information disclosed under APO in accordance with section 351.305(a)(3) of the Department's regulation. Timely written notification of the return or destruction of APO materials or conversion to judicial protective order is hereby requested. Failure to comply with the regulations and terms of an APO is a sanctionable violation.

This notice is issued and published in accordance with section 777(i) of the Act and section 351.213(d)(4) of the Department's regulations.

Dated: February 10, 2006.
Stephen J. Claeys,
Deputy Assistant Secretary for Import Administration.

[FR Doc. E6-2284 Filed 2-15-06; 8:45 am]

BILLING CODE 3510-DS-S